DEPARTMENT OF HEALTH AND HUMAN SERVICES

Administration for Children and Families

Office of the Deputy Assistant Secretary for Administration Statement of Organization, Functions, and Delegations of Authority

AGENCY: Administration for Children and Families, HHS.

ACTION: Notice: Realignment of the Office of the Deputy Assistant Secretary for Administration.

SUMMARY: The Administration for Children and Families (ACF) has realigned The Office of the Deputy Assistant Secretary for Administration (ODASA). This realignment removes the Office of the Chief Information Officer as a direct report to the Assistant Secretary for Children and Families and realigns the Office within the ODASA. It moves the National Grants Center of Excellence to the ODASA's Immediate Office. It also removes the Ethics and Facilities team from the Immediate Office of the ODASA and places the functions in the Office of Workforce Planning and Development.

FOR FURTHER INFORMATION CONTACT: Ben Goldhaber, Deputy Assistant Secretary for Administration, 330 C Street SW, Washington, DC 20201, (202) 795-7790.

This notice amends Part K of the Statement of Organization, Functions, and Delegations of Authority of the Department of Health and Human Services (HHS), Administration for Children and Families (ACF) as follows: Chapter KP, Office of the Deputy Assistant Secretary for Administration, (ODASA), as last amended, 81 FR 49223-49224, July 27, 2016, and 77 FR 67653-67655, November 13, 2012; Chapter KQ, Office of the Chief Information Officer (OCIO), as last amended, 81 FR 49223-49224, July 27, 2016; Chapter K, Administration for Children and Families (ACF), as last amended, 81 FR 87563, December 5, 2016.

I. Under Chapter K, Administration for Children and Families, delete Section K.10, in its entirety and replace with the following:

K.10 Organization. The Administration for Children and Families (ACF) is a principal operating division of the Department of Health and Human Services (HHS). The Administration is headed by the Assistant Secretary for Children and Families, who reports directly to the Secretary. The Assistant Secretary also serves as the Director of Child Support Enforcement. In addition to the Assistant Secretary, the Administration consists of the Principal Deputy Assistant Secretary, the Chief of Staff, the Deputy Assistant Secretary for Administration, the Deputy Assistant Secretary for Policy, the Deputy Assistant Secretary for Early Childhood Development, the Deputy Assistant Secretary for Native American Affairs and Commissioner, Administration for Native Americans, the Deputy Assistant Secretary for External Affairs, and Staff and Program Offices. ACF is organized as follows:

Office of the Assistant Secretary for Children and Families (KA)

Administration on Children, Youth and Families (KB)

Administration for Native Americans (KE)

Office of Child Support Enforcement (KF)

Office of Community Services (KG)

Office of Family Assistance (KH)

Office of Regional Operations (KJ)

Office of Planning, Research and Evaluation (KM)

Office of Communications (KN)

Office of the Deputy Assistant Secretary for Administration (KP)

Office of Refugee Resettlement (KR)

Office of Legislative Affairs and Budget (KT)

Office of Head Start (KU)

Office of Child Care (KV)

Office of Human Services Emergency Preparedness and Response (KW)

II. Under Chapter KP, Office of the Deputy Assistant Secretary for Administration, KP.00 Mission, delete in its entirety and replace with the following:

KP.00 Mission. The Deputy Assistant Secretary for Administration serves as principal advisor to the Assistant Secretary for Children and Families on all aspects of personnel administration and management; financial management activities; grants policy and overseeing the issuance of grants; acquisition advisory services; the ethics program; staff development and training activities; organizational development and organizational analysis; and administrative services and facilities management. The Deputy Assistant Secretary for Administration oversees the Diversity Management and Equal Employment Opportunity program and all administrative special initiative activities for ACF.

III. Under Chapter KP, Office of the Deputy Assistant Secretary for Administration, KP.10 Organization, delete in its entirety and replace with the following:

KP.10 Organization. The Office of the Deputy Assistant Secretary for Administration is headed by the Deputy Assistant Secretary for Administration who reports to the Assistant Secretary for Children and Families. The Office is organized as follows:

Immediate Office of the Deputy Assistant Secretary for Administration (KPA)

Office of Financial Services (KPC)

Office of Workforce Planning and Development (KPD)

Office of Grants Management (KPG)

Grants Management Regional Units (KPGDI-X)

Office of Diversity Management and Equal Employment Opportunity (KPH)

Office of the Chief Information Officer (KPI)

Division of Portfolio Management & Governance (KPI1)

Division of Policy, Strategy and Planning (KPI2)

Division of Cyber Security & Privacy (KPI3)

Division of Service & Solution Delivery (KPI4)

IV. Under Chapter KP, Office of the Deputy Assistant Secretary for Administration, KP.20 Functions, paragraph A, delete in its entirety and replace with the following:

KP.20 Functions. A. The Immediate Office of the Deputy Assistant Secretary for Administration (ODASA) directs and coordinates all administrative activities for the Administration for Children and Families (ACF). The Deputy Assistant Secretary for Administration serves as ACF's: Chief Financial Officer; Chief Grants Management Officer; Federal Manager's Financial Integrity Act (FMFIA) Management Control Officer; Deputy Ethics Counselor; Personnel Security Representative; and Reports Clearance Officer. The Deputy Assistant Secretary for Administration serves as the ACF liaison to the Office of the General Counsel, and as appropriate, initiates action in securing resolution of legal matters relating to management of the agency, and represents the Assistant Secretary on all administrative litigation matters.

The Deputy Assistant Secretary for Administration represents the Assistant Secretary in HHS and with other federal agencies and task forces in defining objectives and priorities, and in coordinating activities associated with federal reform initiatives. ODASA provides leadership of assigned ACF special initiatives arising from Departmental, federal and non-federal directives to improve service delivery to customers.

The Deputy Assistant Secretary for Administration provides day-to-day executive leadership and direction to the Immediate Office of the Deputy Assistant Secretary, Office of Financial Services, Office of Workforce Planning and Development, the Office of Grants Management, Office of Diversity Management and Equal Employment Opportunity, and the Office of the Chief Information Officer. The Immediate Office of the Deputy Assistant Secretary for Administration consists of the Deputy Director, Chief of Staff, the Management Operations Team, the Acquisition Team, and the Budget Team.

The Management Operations Team coordinates human capital management needs within ODASA. The Team provides leadership, guidance, oversight and liaison functions for ODASA personnel related issues and activities as well as other administrative functions within ODASA. The Management Operations Team coordinates with the Office of Workforce Planning and Development to provide ODASA staff with a full array of personnel services, including position management, performance management, employee recognition, staffing, recruitment, employee and labor relations, employee worklife, payroll liaison, staff development, training services, and special hiring and placement programs. The Team develops and implements ACF travel policies and procedures consistent with federal requirements. The Team provides technical assistance and oversight; coordinates ACF's use of the Travel Management System; manages employee participation in the Travel Charge Card program, and coordinates Travel Management Center services for ACF. It purchases and tracks common use supplies, stationery and publications. It plans and manages reprographic services.

The Budget Team manages the formulation and execution of ODASA's federal administration budget and assigned ACF program and common expense budgets. The Budget Team maintains budgetary controls on ODASA accounts, reconciling accounting reports and invoices, and monitoring all spending. The Team develops, defends and executes the assigned funds for rent, repair and alterations, facilities activities, telecommunication, information technology, personnel services and training. The Team also controls ODASA's credit card for small purchases.

The Acquisition Team provides expert advice and counsel to ACF officials on acquisition issues, develops guidance and procedures, and ensures compliance with applicable regulations, rules, and policies. The Team serves as the liaison with the contracting offices, and provides analysis, evaluation, consultation, and advice to management on acquisition strategies. The Team leads the ACF implementation on cost effective strategies and in the development of the ACF annual acquisition plan. The Team works with ACF offices to strategically plan short-term and long-term objectives, and leads the agency workgroup on acquisition activities. The Team works with the ACF Training Officer and the Acquisition Career Manager to coordinate and communicate certification training for ACF's Contracting Officer's Representatives.

V. Under Chapter KP, Office of the Deputy Assistant Secretary for Administration, KP.20 Functions, paragraph D, delete in its entirety and replace with the following:

D. The Office of Workforce Planning and Development (OWPD) advises the Deputy Assistant Secretary for Administration on human resource management, and organizational and employee development activities for ACF. OWPD provides leadership, direction and oversight for human resource management services provided to ACF. OWPD, in collaboration and coordination with the Washington Human Resource Services Center, provides advice and assistance to ACF managers in their personnel management activities, including recruitment, selection, position management, performance management, designated performance and incentive awards and employee assistance programs and other services to ACF employees. OWPD provides management, direction and oversight of the following personnel administrative services: The exercise of appointing authority, position classification, awards authorization, performance management evaluation, personnel action processing and record keeping, merit promotion, special hiring, and placement programs. OWPD serves as liaison between ACF, the Department, and the Office of Personnel Management. It provides technical advice and assistance on personnel policy, regulations, and laws. OWPD formulates and interprets policies pertaining to existing personnel administration and management matters and formulates and interprets new human resource programs and strategies. The Office, in collaboration and coordination with the Washington Human Resource Services Center provides oversight and management advisory services on all ACF employee relations issues. The Office plans and coordinates ACF employee relations and labor relations activities, including the application and interpretation of the Federal Labor Management Relations Program collective bargaining agreements, disciplinary and adverse action regulations and appeals. The Office participates in the formulation and implementation of policies, practices and matters affecting bargaining unit employees' working conditions by assuring management's compliance with the Federal Labor Relations Program (5 U.S.C. Chapter 71). The Office maintains oversight, leadership and direction of the labor-management and employee relations services provided under contract with the Washington Human Resource Services Center.

OWPD is responsible for formulation, planning, analysis and development of ACF human resource policies and programs, workforce planning, and liaison functions to the Department on ACF payroll matters. The Office formulates and oversees the implementation of ACF-wide policies, regulations and procedures concerning all aspects of the Senior Executive Service (SES), and SES-equivalent recruitment, staffing, position establishment, compensation, award, performance management and related personnel areas. The Office manages the ACF SES performance recognition systems and provides services for functions of the Executive Secretary to the Executive Resources Board and the Performance Review Board. OWPD coordinates Schedule C and executive personnel activity with the Office of the Secretary and is the focal point for data, reports and analyses relating to Schedule C, SES and Executive-level personnel. OWPD advises the Deputy Assistant Secretary for Administration on organizational analysis and development including: Delegations of authority; planning for new organizational elements; and planning, organizing and performing studies, analyses and evaluations related to structural, functional and organizational issues, problems, and policies to ensure organizational effectiveness. The Office administers ACF's system for review, approval and documentation of delegations of authority. The Office provides technical assistance and guidance to ACF offices on intra-component organizational proposals and is responsible for development and/or review of inter-component organizational proposals. The Office develops policies and procedures for implementing organizational development activities and provides leadership of assigned ACF special initiatives arising from departmental, federal and non-federal directives to improve service delivery to customers and to enhance employee work environment. The Office manages and coordinates designated incentive awards programs. The Office develops training policies and plans for ACF. It provides leadership in directing and managing Agency-wide staff development and training activities for ACF. OWPD is responsible for the functional management of all information technology and software training, common needs training, and management training in the agency, including policy development, guidance, technical assistance, and evaluation of all aspects of career employee, supervisory, management and executive training. It provides guidance in directing and managing Agency-wide staff development and training activities for ACF. OWPD is responsible for the functional management of career development (all levels), supervisory/managerial, and senior executive training in the agency. In addition, OWPD is a resource to policy development, guidance, technical assistance, and evaluation of all aspects of career non-managerial, supervisory, managerial and executive training. The Office develops and manages the consolidated training budget for the Agency.

The Office of Workforce Planning and Development is responsible for planning, managing, and directing ACF's facility, safety, security, and emergency management programs. OWPD provides leadership and direction to the Ethics and Facilities team. OWPD serves as the lead for ACF in coordination and liaison with Departmental, GSA and other federal agencies on implementation of federal facility and security directives. The OWPD serves as lead and coordinator for all tenant matters in ACF headquarter locations. The Office coordinates facility activities for ACF's regional offices. OWPD is responsible for planning and executing ACF's environmental health program, and ensuring that appropriate occupational health and safety plans are in place. The Office is responsible for issuing, managing and controlling badge and cardkey systems to control access to agency space for security purposes. The Office provides, prepares, coordinates, and disseminates information, policy and procedural guidance on administrative and materiel management issues on an agency-wide basis. It directs and/or coordinates management initiatives to improve ACF administrative and materiel management services with the goal of continually improving services while containing costs. OWPD establishes and manages contracts and/or blanket purchase agreements for administrative support and materiel management services, including space design, building alteration and repair, reprographics, moving, labor, property management and inventory, systems furniture acquisitions and assembly, and fleet management. The Office provides management and oversight of ACF mail delivery services and activities, including Federal and contractor postal services nationwide, covering all classes of U.S. Postal Service mail, priority and express mail services, and courier services, etc. The Office plans, manages/operates employee transportation programs, including shuttle service and fleet management; employee and visitor parking. OWPD directs all activities associated with the ACF Master Housing Plan, including coordination and development of the agency long-range space budget; planning, budgeting, identification, solicitation, acceptance and utilization of office and special purpose space, repairs, and alterations; serving as principal liaison with GSA and other Federal agencies, building managers and materiel engineers, architects and commercial representatives, for space acquisitions, negotiation of lease terms, dealing with sensitive issues such as handicapped barriers, and space shortages. It develops and maintains space floor plans and inventories, directory boards, and locator signs. The Office serves as principal liaison with private and/or Federal building managers for all administrative services and materiel management activities. It develops and implements policies and procedures for the ACF Personal Property Management program, including managing the ACF Personal Property Inventory, and other personal property activities.

OWPD manages the agency-wide ethics program. The Office ensures that the agency and ACF employees are in compliance with the Executive Branch Standards of Ethical Conduct, the HHS Supplemental Standards of Ethical Conduct, the criminal conflict of interest statutes, and other ethics related laws and regulations. The agency-wide ethics program includes the public financial disclosure reporting system, confidential financial disclosure reporting system, outside activity prior approval and annual report process, non-federal source cash or in-kind travel reimbursement, procurement integrity enforcement, standards of ethical conduct determinations, conflicts resolution, advisory committees ethics program, advice and counsel, education and training, and enforcement. The Ethics Officer reports to the DASA, through the Director of OWPD, who serves as the ACF Deputy Ethics Counselor.

VI. Under Chapter KP, Office of the Deputy Assistant Secretary for Administration, KP.20 Functions, add paragraph J.

J. The mission of the Office of the Chief Information Officer (OCIO) is to obtain, procure or develop cost effective and efficient IT solutions that enable ACF's staff and grantees to successfully fulfill programmatic missions that result in the realization of the ACF vision. The OCIO implements IT strategies, policies and governance frameworks to improve the efficiency and performance of ACF's information technology (IT) systems that support ACF business processes in a manner that balances risk and cost with required outcomes, while ensuring compliance with all federal statutes and regulations. OCIO has ACF-wide responsibility for the direction and development of ACF's IT acquisition strategy, planning analysis and approval, management of IT investments both pre- and post-award, and leadership of key technology initiatives. The OCIO provides oversight and guidance on the use of business process reengineering, performance measurement, and continuous process improvement in the development, operation, and application of information systems and infrastructure. The OCIO manages cross-organizational stakeholder relations to maintain a flexible and adaptive IT posture that supports a resilient risk management approach to IT security and privacy. The OCIO creates policies to provide improved management of information resources and technology to more efficiently and effectively service ACF's internal and external clients and ACF employees. The OCIO will identify the appropriate continuing education for staff in the domain of records management, IT security and privacy and incident response protocols.

The Office of the Chief Information Officer is responsible for providing centralized information technology (IT) policy, procedures, standards, and guidelines. OCIO's responsibilities include: Strategy, policy and IT governance, including performance measurement and innovation; security, privacy, and risk management, including business continuity, standardization and oversight of business processes, external compliance, and security strategy and management; financial and vendor management and IT acquisition oversight, including acquisition strategies, technological approaches, performance measurement, vendor selection, cost estimating and optimization; service planning and architecture, including quality management and enterprise architecture; program and project management; portfolio management, applications management, development, and maintenance; IT infrastructure and operations; and data services, big data analytics and business intelligence.

The Division of Portfolio Management & Governance provides centralized IT Portfolio management functions to include: IT governance execution services, vendor management services, IT process training services, IT acquisition oversight, portfolio risk management, portfolio performance metrics reporting and analysis, post-award acquisition support, enterprise architecture compliance oversight, 508 Compliance oversight, finance and budget execution services, integration services, and independent verification testing services.

The Division of Policy, Strategy, and Planning is responsible for providing governance and oversight of centralized enterprise wide IT functions across ACF which includes: Strategy, policy and IT governance, IT planning and strategic goal alignment, enterprise architecture definition and oversight, pre-award acquisition support, IT budget definition and oversight, Capital Planning and Investment Control (CPIC) services, and business relationship management and IT investment planning services.

The Division of Cyber Security & Privacy provides overall IT Security Management for all ACF systems including security and privacy risk management, security architecture and engineering support services, security assessments and authorizations, privacy and security incident response services, privacy impact assessments, vulnerability management, security operations functions, security testing, and security and privacy policy and governance.

The Division of Service & Solution Delivery provides overall solution delivery and operations services, including: Project management, application development, quality assurance testing services, infrastructure and operations maintenance services, system/application training services, data processing services and overall customer support service delivery services, i.e. service desk operations.

Dated: May 15, 2018.
Steven Wagner,
Acting Assistant Secretary for Children and Families.

[FR Doc. 2018-11125 Filed 5-23-18; 8:45 am]

BILLING CODE 4184-40-P